DEPARTMENT OF ENERGY

Federal Energy Regulatory Commission

[Project No. 14306-000]

The City of East Providence; Notice of Preliminary Permit Application Accepted for Filing and Soliciting Comments, Motions To Intervene, and Competing Applications

On October 14, 2011, The City of East Providence filed an application for a preliminary permit, pursuant to section 4(f) of the Federal Power Act (FPA), proposing to study the feasibility of the Hunt's Mill Dam Hydropower Project (Hunt's Mill Dam Project or project) to be located on Ten Mile River, in the City of East Providence, Providence County, Rhode Island. The sole purpose of a preliminary permit, if issued, is to grant the permit holder priority to file a license application during the permit term. A preliminary permit does not authorize the permit holder to perform any land-disturbing activities or otherwise enter upon lands or waters owned by others without the owners' express permission.

The proposed project would consist of the following: (1) The existing 175-foot-long Hunt's Mill dam, which is owned by the City of East Providence, Rhode Island and includes a 125-foot-long, 10-foot-high curved stone masonry spillway; (2) an existing 32 acre impoundment with 140 acre-feet of storage capacity at elevation 33.5 feet NAVD 88; (3) a newly constructed or refurbished powerhouse; (4) a new or refurbished vertical Francis turbine/generator with total hydraulic capacity of 100 cubic feet per second (cfs) and total installed generating capacity of 0.3 megawatts connected to a rehabilitated or new penstock; (5) a rehabilitated intake, with new downstream fish protection measures; (6) an existing 900-foot-long open tailrace channel; (7) an existing switchyard with interconnected transmission line located at the existing powerhouse; and (8) appurtenant facilities. The estimated annual generation of the Hunt's Mill Dam Project would be 0.85 gigawatt-hours (GWH).

Applicant Contact: Mr. Jonathan Petrillo, Agent, The Essex Partnership, LLC, 27 Vaughan Ave., Newport, RI 02840; phone: (401) 619-4872.

FERC Contact: John Ramer; phone: (202) 502-8969.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14306-000) in the docket number field to access the document. For assistance, contact FERC Online Support.

Dated: November 16, 2011.
Kimberly D. Bose,
Secretary.

[FR Doc. 2011-30123 Filed 11-21-11; 8:45 am]

BILLING CODE 6717-01-P